FEDERAL HOUSING FINANCE BOARD

Sunshine Act Meeting

Announcing an Open Meeting of the Board

Time and Date: 10 a.m., Wednesday, April 10, 2002.

Place: Board Room, Second Floor, Federal Housing Finance Board, 1777 F Street, NW., Washington, DC 20006.

Status: The entire meeting will be open to the public.

Matter to be Considered During Portions Open to the Public: • Final Rule: Affordable Housing Program Amendments

• Final Rule: Amendment of 12 CFR 985.8(b)—Minimum Number of Scheduled Office of Finance Board meetings

• Appointment of Public Interest Director

• Federal Home Loan Bank of Atlanta Capital Plan

CONTACT PERSON FOR MORE INFORMATION: Elaine L. Baker, Secretary to the Board, (202) 408-2837.

James L. Bothwell,
Managing Director.

[FR Doc. 02-8372 Filed 4-3-02; 10:32 am]

BILLING CODE 6725-01-P